DEPARTMENT OF ENERGY

Federal Energy Regulatory Commission

Combined Notice of Filings

Take notice that the Commission has received the following Natural Gas Pipeline Rate and Refund Report filings:

Filings Instituting Proceedings

Docket Numbers: RP12-41-000.

Applicants: Crossroads Pipeline Company.

Description: Crossroads Pipeline Company submits tariff filing per 154.204: Operational Transactions to be effective 10/26/2011.

Filed Date: 10/25/2011.

Accession Number: 20111025-5063.

Comment Date: 5 p.m. Eastern Time on Monday, November 7, 2011.

Docket Numbers: RP12-42-000.

Applicants: Natural Gas Pipeline Company of America LLC.

Description: Natural Gas Pipeline Company of America LLC submits tariff filing per 154.204: Negotiated Rate Filing—Integrys Energy to be effective 11/1/2011.

Filed Date: 10/25/2011.

Accession Number: 20111025-5095.

Comment Date: 5 p.m. Eastern Time on Monday, November 7, 2011.

Docket Numbers: RP12-43-000.

Applicants: Natural Gas Pipeline Company of America LLC.

Description: Natural Gas Pipeline Company of America LLC submits tariff filing per 154.204: OXY Negotiated Rate Agreement to be effective 11/1/2011.

Filed Date: 10/25/2011.

Accession Number: 20111025-5108.

Comment Date: 5 p.m. Eastern Time on Monday, November 7, 2011.

Docket Numbers: RP12-44-000.

Applicants: Algonquin Gas Transmission, LLC.

Description: Algonquin Gas Transmission, LLC submits tariff filing per 154.204: KeySpan 2011-11-01 releases to Repsol to be effective 11/1/2011.

Filed Date: 10/25/2011.

Accession Number: 20111025-5115.

Comment Date: 5 p.m. Eastern Time on Monday, November 7, 2011.

Docket Numbers: RP12-45-000.

Applicants: Natural Gas Pipeline Company of America LLC.

Description: Natural Gas Pipeline Company of America LLC submits tariff filing per 154.204: Twin Eagle Negotiated Rate Agreement to be effective 11/1/2011.

Filed Date: 10/25/2011.

Accession Number: 20111025-5117.

Comment Date: 5 p.m. Eastern Time on Monday, November 7, 2011.

Docket Numbers: RP12-46-000.

Applicants: CenterPoint Energy Gas Transmission Company.

Description: CenterPoint Energy Gas Transmission Company Annual Report of Linked Firm Service Penalty Revenue Credits for twelve month reporting period ending July 31, 2011.

Filed Date: 10/25/2011.

Accession Number: 20111025-5123.

Comment Date: 5 p.m. Eastern Time on Monday, November 7, 2011.

Docket Numbers: RP12-47-000.

Applicants: CenterPoint Energy Gas Transmission Company,

CenterPoint Energy Gas Transmission Company.

Description: Annual Report of Total Penalty Revenue Credits for twelve month reporting period ended July 31, 2011.

Filed Date: 10/25/2011.

Accession Number: 20111025-5124.

Comment Date: 5 p.m. Eastern Time on Monday, November 7, 2011.

Docket Numbers: RP12-48-000.

Applicants: Kinder Morgan Interstate Gas Transmission LLC.

Description: Kinder Morgan Interstate Gas Transmission LLC submits tariff filing per 154.204: Settlement—Fuel 2011-10-25 to be effective 6/1/2011.

Filed Date: 10/25/2011.

Accession Number: 20111025-5130.

Comment Date: 5 p.m. Eastern Time on Monday, November 7, 2011.

Docket Numbers: RP12-49-000.

Applicants: Algonquin Gas Transmission, LLC.

Description: Algonquin Gas Transmission, LLC submits tariff filing per 154.204: Non-conforming Agreements with NJRES and Sequent to be effective 11/1/2011.

Filed Date: 10/25/2011.

Accession Number: 20111025-5142.

Comment Date: 5 p.m. Eastern Time on Monday, November 7, 2011.

Docket Numbers: RP12-50-000.

Applicants: Midcontinent Express Pipeline LLC.

Description: Midcontinent Express Pipeline LLC submits tariff filing per 154.204: Negotiated Rate Filing—Sawgrass to be effective 10/25/2011.

Filed Date: 10/25/2011.

Accession Number: 20111025-5176.

Comment Date: 5 p.m. Eastern Time on Monday, November 7, 2011.

Docket Numbers: RP12-51-000.

Applicants: Gulf Crossing Pipeline Company LLC.

Description: Gulf Crossing Pipeline Company LLC submits tariff filing per 154.204: Newfield 18 to Tenaska 217 Cap Release Negotiated Rate Agreement Filing to be effective 11/1/2011.

Filed Date: 10/26/2011.

Accession Number: 20111026-5028.

Comment Date: 5 p.m. Eastern Time on Monday, November 7, 2011.

Docket Numbers: RP12-52-000.

Applicants: Gulf South Pipeline Company, LP.

Description: Gulf South Pipeline Company, LP submits tariff filing per 154.204: EOG 34687-7 Amendment to Negotiated Rate Agreement Filing to be effective 11/1/2011.

Filed Date: 10/26/2011.

Accession Number: 20111026-5029.

Comment Date: 5 p.m. Eastern Time on Monday, November 7, 2011.

Docket Numbers: RP12-53-000.

Applicants: Gulf South Pipeline Company, LP.

Description: Gulf South Pipeline Company, LP submits tariff filing per 154.204: QEP 37657-10 Amendment to Negotiated Rate Agreement Filing to be effective 11/1/2011.

Filed Date: 10/26/2011.

Accession Number: 20111026-5033.

Comment Date: 5 p.m. Eastern Time on Monday, November 7, 2011.

Docket Numbers: RP12-54-000.

Applicants: Gulf South Pipeline Company, LP.

Description: Gulf South Pipeline Company, LP submits tariff filing per 154.204: HK 37731 to Sequent 39267 Capacity Release Negotiated Rate Agreement Filing to be effective 11/1/2011.

Filed Date: 10/26/2011.

Accession Number: 20111026-5036.

Comment Date: 5 p.m. Eastern Time on Monday, November 7, 2011.

Docket Numbers: RP12-55-000.

Applicants: Gulf South Pipeline Company, LP.

Description: Gulf South Pipeline Company, LP submits tariff filing per 154.204: HK 37731 to Texla 39268 Capacity Release Negotiated Rate Agreement Filing to be effective 11/1/2011.

Filed Date: 10/26/2011.

Accession Number: 20111026-5037.

Comment Date: 5 p.m. Eastern Time on Monday, November 7, 2011.

Docket Numbers: RP12-56-000.

Applicants: Gulf South Pipeline Company, LP.

Description: Gulf South Pipeline Company, LP submits tariff filing per 154.204: HK 37731 to Texla 39269 Capacity Release Negotiated Rate Agreement Filing to be effective 11/1/2011.

Filed Date: 10/26/2011.

Accession Number: 20111026-5038.

Comment Date: 5 p.m. Eastern Time on Monday, November 7, 2011.

Docket Numbers: RP12-57-000.

Applicants: Gulf South Pipeline Company, LP.

Description: Gulf South Pipeline Company, LP submits tariff filing per 154.204: ONEOK 34951 to BG Energy 39280 Capacity Release Negotiated Rate Agreement Filing to be effective 11/1/2011.

Filed Date: 10/26/2011.

Accession Number: 20111026-5039.

Comment Date: 5 p.m. Eastern Time on Monday, November 7, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1429-002.

Applicants: Trans-Union Interstate Pipeline, L.P.

Description: Trans-Union Interstate Pipeline, L.P. submits tariff filing per 154.203: Order 587-U Compliance Filing to Modify Tariff 09192011 to be effective 11/1/2010 under RP11-1429 Filing Type: 580.

Filed Date: 09/19/2011.

Accession Number: 20110919-5093.

Comment Date: 5 p.m. Eastern Time on Monday, October 30, 2011.

Docket Numbers: RP11-2510-001.

Applicants: Trailblazer Pipeline Company LLC.

Description: Trailblazer Pipeline Company LLC submits tariff filing per 154.203: Compliance Filing to be effective 9/1/2011.

Filed Date: 10/25/2011.

Accession Number: 20111025-5122.

Comment Date: 5 p.m. Eastern Time on Monday, November 7, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: October 26, 2011.
Nathaniel J. Davis, Sr.,
Deputy Secretary.

[FR Doc. 2011-28190 Filed 10-31-11; 8:45 am]

BILLING CODE 6717-01-P